DEPARTMENT OF THE INTERIOR

National Park Service

Draft Environmental Impact Statement/Fire Management Plan, Whiskeytown National Recreation Area, Shasta County, CA; Notice of Availability

SUMMARY: Pursuant to § 102(2)(C) of the National Environmental Policy Act of 1969 (Pub. L. 91-190, 42 U.S.C. 4321-4347, January 1, 1970, as amended), and the Council on Environmental Quality Regulations (40 CFR Part 1500-1508), the National Park Service, Department of the Interior, has prepared a Draft Environmental Impact Statement identifying and evaluating four alternatives for a Fire Management Plan for Whiskeytown National Recreation Area, in northern California. Potential impacts and mitigating measures are described for each alternative. The alternative selected after this conservation planning and environmental impact analysis process will serve as a blueprint for fire management actions at Whiskeytown National Recreation Area over the next 10 years.

This Whiskeytown Fire Management Plan (FMP) and Draft Environmental Impact Statement (DEIS) identifies and analyzes three action alternatives, and a no action alternative, for a revised Fire Management Plan at Whiskeytown National Recreation Area. Revisions to the current plan are needed to meet public and firefighter safety, natural and cultural resource management, and wildland urban interface objectives of the park. The action alternatives vary in the emphasis they place on fire management goals developed by the park. The current program has been effective in fire suppression, but has not been able to restore large portions of the park landscape to circa 1800 conditions as required by the 2000 General Management Plan (GMP). Each action alternative contains an amendment to the park's GMP to clarify that the park's administration building may be rebuilt in its current location at park headquarters in conjunction with relocating the fire cache to the Oak Bottom recreational complex.

Whiskeytown National Recreation Area is located eight miles west of Redding, California and encompasses 42,500 acres, including the 3000-acre Whiskeytown Lake—a reservoir created as part of California's Central Valley Project, Trinity River Diversion. In the past, wildland fire occurred naturally in the park as an important ecosystem process that kept forest fuels and vegetation structure within the natural range of variability. Mining, logging and fire suppression activities have lead to increased fuel loads and changes in vegetation community structure. This has increased the risk of large, high-intensity wildland fire within the park, threatening developed zones, the park's natural and cultural resources, and neighboring landowners and communities.

Alternatives: Under the park's preferred alternative (Alternative IV), the park would focus on restoring Whiskeytown's plant communities to reduce the risk of high severity wildland fire by decreasing forest stand density, reducing surface fuels, and attempting to restore fire as a natural disturbance process to the greatest extent feasible using prescribed fire, mechanical treatment and managed wildland fire when appropriate. Up to 2,200 acres per year would be treated through prescribed fire and wildland fire use. Three levels of mechanical treatment would be utilized to reduce fuel levels and mimic the effects of fire on structural patterns of woody vegetation, including the use of hand tools, chainsaws, weed eaters, chippers, brush mastication and small-scale logging of trees up to 12 inches in diameter at breast height. Mechanical treatment would be used to reduce forest fuels in and around developed areas, and to install and widen some new and existing shaded fuel breaks. Mechanical treatment would be used on up to 1,075 acres per year.

Under the no-action alternative (Alternative I), the current fire management program would continue utilizing a limited range of fire management strategies—including prescribed fire, limited mechanical treatment and suppression of all wildland fires (including natural ignitions). The current program includes both broadcast and pile burning components, with prescribed fire projects ranging in size from 0.5 to 1,000 acres occurring in all vegetation types. Maximum burning in a given year under this alternative would be 1,400 acres. Limited mechanical treatment methods would be utilized to reduce hazardous fuel levels in the park. These would include the use of chain saws, weed-eaters, hand crews, and chippers to clear around buildings, to install and maintain shaded fuel breaks, and to clear along roadways. Total maintained shaded fuel break system would be 850 acres, with maintenance occurring at least once every three years as needed. Annual average maintenance of all mechanically treated areas under Alternative I would be 275 acres.

Under Alternative II, the fire program would focus on the application of prescribed fire to meet ecological restoration objectives, and to reduce hazardous fuels throughout the park. All other fires would be suppressed including natural ignitions. Mechanical treatment would only be used to construct prescribed fire burn unit boundaries and to reduce fuels around developed areas. Alternative II would only utilize hand tools, chainsaws, weed eaters and chippers for mechanical treatment for an average 80 acres annually. This alternative would include pile burning and broadcast burning. Projects under Alternative II would include areas up to 1,000 acres in size to simulate, to the greatest extent feasible, the scale and pattern of natural fire events. Up to 3,000 acres would be burned during each year of implementation. Due to windows of opportunity during the dormant season, Alternative II would implement prescribed burns during the non-dormant season from 10%-20% of the time to maximize opportunities for execution of prescribed fire projects.

Under Alternative III, all natural and human-ignited wildland fires would be suppressed. Prescribed burning would only occur in conjunction with mechanical fuel treatments around developments and on shaded fuel breaks. Alternative III would consist of pile burning and a few prescribed fire projects to strengthen and widen by up to ¼ to ½ mile shaded fuel breaks for tactical purposes in the case of suppression fire events. No large, prescribed fires would be conducted. Up to 250 acres would be burned during each year of implementation. This alternative would use mechanical treatment to reduce forest fuels in and around developed areas, and to install new, and widen existing shaded fuel breaks. Hand tools, chainsaws, weed eaters, chippers, and brush masticators would be used. Annual program levels would be up to 225 acres for each of the two mechanical treatment levels proposed in this alternative.

Alternative IV is the “environmentally preferred” alternative; comparative analysis in this regard is provided in the DEIS. Also, an element common to all of the action alternatives is the possible amending of the 2000 GMP with regard to options for future locations of operational and administrative facilities.

Planning Background: A Notice of Intent was published in the Federal Register on August 8, 2001, and the scoping period ended on September 15, 2001 (although comments were accepted throughout 2002). During this time the NPS held discussions and briefings with local communities; local residents; local, regional and state fire organizations; air quality regulators; other agency representatives; tribes; park staff; elected officials; public service organizations and other interested members of the public. A public scoping meeting was held on August 23, 2001 in the town of Old Shasta, in the Shasta Elementary School Multipurpose room. Twenty members of the public attended. The meeting included a question and answer period and time for public comments. The issues raised during this period are summarized in Chapter 1, Purpose and Need of the DEIS.

Comments: The FMP/DEIS will be sent directly to those who have requested it. Copies will also be available at park headquarters and at local and regional libraries, and the complete document will be posted on the park's Web site at http://www.nps.gov/whis/exp. Written comments must be postmarked (or transmitted by e-mail) no later than sixty days from the date of EPA's notice of filing published in the Federal Register—immediately upon determining this date it will be announced on the park's Web site. All comments should be addressed to the Superintendent and mailed to Whiskeytown National Recreation Area, PO Box 188, Whiskeytown, CA 96095 (Attn: Fire Management Plan); or e-mailed to whis_planning@nps.gov (in the subject line, type: Fire Management Plan).

In order to facilitate public review and comment on the FMP/DEIS, the Superintendent will schedule public meetings in the local area, which at this time are anticipated to occur in late spring, 2003. Whiskeytown employees will attend all sessions to present the FMP/DEIS, to receive oral and written comments, and to answer questions. Participants are encouraged to review the document prior to attending a meeting. As with the public scoping meeting, confirmed details on location and times for these comment opportunities will be widely advertised in the local and regional media, on the park's website, and via direct mailings to agencies, organizations and interested members of the public.

All comments are maintained in the administrative record and will be available for public review at park headquarters. If individuals submitting comments request that their name and/or address be withheld from public disclosure it will be honored to the extent allowable by law. Such requests must be stated prominently in the beginning of the comments. As always: NPS will make available to public inspection all submissions from organizations or businesses and from persons identifying themselves as representatives or officials of organizations and businesses; and, anonymous comments may not be considered.

Decision Process: Depending on the degree of public interest and response from other agencies and organizations, at this time it is anticipated that the Final Environmental Impact Statement and Fire Management Plan will be completed in late 2003. The availability of the Final EIS will be published in the Federal Register, and announced via local and regional press and website postings. Subsequently, a Record of Decision may be approved not sooner than thirty days after the Final EIS and FMP document is distributed. As a delegated EIS, the official responsible for the final decision is the Regional Director, Pacific West Region, National Park Service. Subsequently, the official responsible for implementation is the Superintendent, Whiskeytown National Recreation Area.

Dated: March 6, 2003.
Jonathan B. Jarvis,
Regional Director, Pacific West Region.

[FR Doc. 03-10026 Filed 4-22-03; 8:45 am]

BILLING CODE 4310-70-P